DEPARTMENT OF ENERGY

Federal Energy Regulatory Commission

[Docket No. OR18-7-000]

Epsilon Trading, LLC, Chevron Products Company, Valero Marketing and Supply Company v. Colonial Pipeline Company; Notice of Complaint

Take notice that on November 22, 2017, pursuant to sections 1(5), 6, 8, 9, 13, 15 and 16 of the Interstate Commerce Act, 49 U.S.C. App. 1(5), 6, 8, 9, 13, 15 and 16; section 1803 of the Energy Policy Act of 1992 (Pub. L. 102-486, 106 Stat. 2772 (1992); Rule 206 of the Rules of Practice and Procedure of the Federal Energy Regulatory Commission's (Commission), 18 CFR 385.206 (2017); and Rules 343.1(a) and 343.2(c) of the Commission's Procedural Rules Applicable to Oil Pipeline Proceedings, 18 CFR 343.1(a) and 343.2(c) (2017), Epsilon Trading, LLC, Chevron Products Company, and Valero Marketing and Supply Company (collectively, Joint Complainants) filed a formal complaint against Colonial Pipeline Company, (Respondent) challenging the just and reasonableness of (1) Respondent's cost-based transportation rates in Tariff FERC No. 99.36.0 and predecessor tariffs; (2) Respondent's market-based rate authority and rates charged pursuant to that authority; and (3) Respondent's charges relating to product loss allocation and transmix, as more fully explained in the complaint.

The Joint Complainants certify that copies of the complaint were served on the contacts for Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 22, 2017.

Dated: November 27, 2017.
Kimberly D. Bose,
Secretary.

[FR Doc. 2017-25999 Filed 12-1-17; 8:45 am]

BILLING CODE 6717-01-P